DEPARTMENT OF COMMERCE

Foreign-Trade Zones Board

[Order No. 1448]

Expansion of Foreign-Trade Zone 243, Victorville, California, Area

Pursuant to its authority under the Foreign-Trade Zones Act of June 18, 1934, as amended (19 U.S.C. 81a-81u), the Foreign-Trade Zones Board (the Board) adopts the following Order:

Whereas, the Southern California Logistics Airport Authority, grantee of Foreign-Trade Zone 243, submitted an application to the Board for authority to expand FTZ 243 to include six additional sites in the cities of Industry, Whittier, Chino and Rialto, California, and to restore zone status to 11 acres at Site 1 (Southern California Logistics Airport) in Victorville, California, within and adjacent to the Victorville Customs user fee airport and the Los Angeles-Long Beach Customs port of entry (FTZ Docket 47-2004; filed 10/29/04; amended 7/25/05);

Whereas, notice inviting public comment was given in the Federal Register (69 FR 65580, 11/15/04) and the application, as amended, has been processed pursuant to the FTZ Act and the Board's regulations; and,

Whereas, the Board adopts the findings and recommendations of the examiner's report, and finds that the requirements of the FTZ Act and Board's regulations are satisfied, and that the proposal, as amended, is in the public interest;

Now, therefore, the Board hereby orders:

The application, as amended, to expand FTZ 243 is approved, subject to the Act and the Board's regulations, including Section 400.28, and subject to the Board's standard 2,000-acre activation limit for the overall general-purpose zone project, and further subject to an initial five-year time limit (to April 30, 2011).

Signed at Washington, DC, this 14th day of April 2006.
David M. Spooner,
Assistant Secretary of Commerce for Import Administration, Alternate Chairman, Foreign-Trade Zones Board.
Attest:
Dennis Puccinelli,
Executive Secretary.

[FR Doc. E6-6218 Filed 4-24-06; 8:45 am]

BILLING CODE 3510-DS-S